FEDERAL RESERVE SYSTEM

Change in Bank Control Notices; Acquisitions of Shares of a Bank or Bank Holding Company Correction

This notice corrects a notice (FR DOC #2012-14579) published on page 35680 of this issue for Thursday, June 14, 2012.

Under the Federal Reserve Bank of Atlanta heading, the entry for Robert Roschman and the Robert Roschman Revocable Trust, Robert Roschman trustee, all of Fort Lauderdale, Florida, is revised to read as follows:

A. Federal Reserve Bank of Atlanta (Chapelle Davis, Assistant Vice President) 1000 Peachtree Street NE., Atlanta, Georgia 30309:

1. Robert Roschman Revocable Trust, Robert Roschman, trustee; the Lorrie Lei Roschman Revocable Trust, Lorrie Roschman, trustee; the Revocable Trust Created by Jeffrey S. Roschman, Jeffrey Roschman, trustee; CT Foundation, Betty Roschman, Roschman Restaurant Administration, and Kerry Roschman, all of Fort Lauderdale, Florida, to collectively retain 25 percent or more of the shares and thereby control of Giant Holdings, Inc., and Landmark Bank, N.A., both of Fort Lauderdale, Florida.

Comments on this application must be received by August 1, 2012.

Board of Governors of the Federal Reserve System, July 6, 2012.
Robert deV. Frierson,
Deputy Secretary of the Board.

[FR Doc. 2012-16984 Filed 7-11-12; 8:45 am]

BILLING CODE 6210-01-P